DEPARTMENT OF DEFENSE

Department of the Army

Intent To Grant an Exclusive License for a U.S. Army Owned Invention to MadahCom, Inc.

AGENCY: Department of the Army, DoD.

ACTION: Notice

SUMMARY: The Department of the Army announces that, unless there is an objection, after 15 days it will grant an exclusive license to MadahCom, Inc., a corporation having a place of business in Sarasota Florida, on ``System And Method For Tactical Centralized Event Warning/Notification For Individual Entities'', by Paul Manz of PM Battle Command, disclosure docket number—CECOM 5531; “System And Method For Semi-Distributed Event Warning/Notification For Individual Entities” by Paul Manz of PM Battle Command, disclosure docket number—CECOM 5530; “System And Method For Tactical Distributed Event Warning/Notification For Individual Entities” by Paul Manz of PM Battle Command and Fernando Maymi of the U.S. Military Academy (USMA), disclosure docket number—CECOM 5532; and ``System For Event Warning/Notification And Reporting For Individual Entities'' by Paul Manz of PM Battle Command and Fernando Maymi of USMA disclosure docket number—CECOM 5533.

Any license granted shall comply with 35 U.S.C. 209 and 37 CFR Part 404.

DATES: File written objections by August 17, 2006.

FOR FURTHER INFORMATION CONTACT: Mr. Timothy S. Ryan, Technology Transfer Program Manager, AMSRD-AAR-EMB, U.S. Army ARDEC, Picatinny Arsenal, NJ 07806-5000, e-mail: tryan@pica. army.mil; (973) 724-7953.

SUPPLEMENTARY INFORMATION: Written objections must be filed within 15 days from publication date of this notice in the Federal Register. Any license granted shall comply with 35 U.S.C. 209 and 37 CFR Part 404.

Brenda S. Bowen,
Army Federal Register Liaison Officer.

[FR Doc. 06-6646 Filed 8-1-06; 8:45am]

BILLING CODE 3710-08-M